FEDERAL COMMUNICATIONS COMMISSION

47 CFR Part 64

[CC Docket No. 98-170; FCC 00-111]

Truth-in-Billing and Billing Format

AGENCY: Federal Communications Commission.

ACTION: Final rule; announcement of effective date.

SUMMARY: This document announces the effective date of the amendments to rules regarding Truth-in-Billing and Billing Format to ensure that telephone bills contain information necessary for consumers to determine the validity of charges assessed on the bills and to combat telecommunications fraud. Some of the rules contained information collection requirements. The rule amendments become effective on August 28, 2000.

DATES: The amendments to 47 CFR 64.2401(a), (d), and (e) published at 65 FR 43251 (July 13, 2000) become effective on August 28, 2000.

FOR FURTHER INFORMATION CONTACT: Michele Walters, Associate Division Chief, Accounting Policy Division, Common Carrier Bureau, (202) 418-7400.

SUPPLEMENTARY INFORMATION: On March 29, 2000, the Commission adopted an Order in the Truth-in Billing and Billing Format proceeding that granted, in part, petitions for reconsideration of the requirements that telephone bills highlight new service providers and prominently display inquiry contact numbers. The Order modified the Truth-in-Billing and Billing Format rules to ensure that telephone bills contain information necessary for consumers to determine the validity of charges assessed on the bills and to combat telecommunications fraud. In the Order, the Commission also denied all other petitions seeking reconsideration, but provided clarification with respect to certain issues. A summary of the Order was published in the Federal Register. See 65 FR 43251 (July 13, 2000). The supplementary information in the summary was corrected in a document published in the Federal Register. See 65 FR 45929 (July 26, 2000). The information collections were approved by OMB on July 21, 2000. See OMB No. 3060-0854.

List of Subjects in 47 CFR Part 64

Claims, Communications common carrier, Computer technology, Consumer protection, Reporting and recordkeeping requirements, Telephone.

Federal Communications Commission.
Magalie Roman Salas,
Secretary.

[FR Doc. 00-21980 Filed 8-25-00; 8:45 am]

BILLING CODE 6712-01-P